DEPARTMENT OF TRANSPORTATION

National Highway Traffic Safety Administration

[Docket No. NHTSA-2018-0055]

New Car Assessment Program Public Meeting; Reschedule

AGENCY: National Highway Traffic Safety Administration (NHTSA), Department of Transportation (DOT).

ACTION: Reschedule notice; extension of comment period.

SUMMARY: Due to the anticipated severe weather from Hurricane Florence, which is forecast to make landfall along the East Coast of the United States later this week, NHTSA is rescheduling the NCAP public meeting to October 1, 2018. The public meeting was originally scheduled on September 14, 2018. Furthermore, due to the new schedule of the public meeting, NHTSA is extending the comment period on the notice of public meeting and request for comments to October 31, 2018. The comment period for the notice of public meeting was originally scheduled to end on October 2, 2018.

DATES: NHTSA will hold the public meeting on October 1, 2018 (instead of September 14, 2018), from 9 a.m. to 5 p.m., Eastern Daylight Time. Check-in will begin at 8 a.m. Attendees should arrive by 8 a.m. to allow sufficient time for security clearance. In addition to this meeting, the public will have the opportunity to submit written comments to the docket for this notice concerning matters addressed in this notice. The comment period for the notice of public meeting and request for comments published August 3, 2018, at 83 FR 38201, is extended. Written comments must be received on or before October 31, 2018 to be considered timely.

ADDRESSES: The public meeting will be held at DOT Headquarters, located at 1200 New Jersey Avenue SE, Washington, DC 20590-0001 (Green Line Metro station at Navy Yard) in the Media Center. This facility is accessible to individuals with disabilities.

FOR FURTHER INFORMATION CONTACT: You may contact Ms. Jennifer N. Dang, Division Chief, New Car Assessment Program, Office of Crashworthiness Standards (Telephone: 202-366-1810).

SUPPLEMENTARY INFORMATION:

I. Public Meeting Details

Registration: Registration is still necessary for all attendees due to limited space. Even if you have already registered for the September 14th meeting, please re-register if you plan to attend the October 1st meeting. Attendees must register online at https://www.surveymonkey.com/r/Rescheduled-NCAP-Public-Meeting by September 21, 2018. Please provide your name, email address, and affiliation. Also, indicate whether you plan to participate actively in the meeting (speaking will be limited to 10 minutes per speaker for each of the four agenda topics, unless the number of registered speakers is such that more time per agenda topic will be available), and whether you require accommodations, such as a sign language interpreter.

Written Comments: Docket NHTSA-2018-0055 is available for written statements and supporting information regarding matters addressed in this notice. All interested persons, regardless of whether they attend or speak at the public meeting, are invited to submit written comments to the docket and are encouraged to do so. The formal docket comment period will close on October 31, 2018, but NHTSA will consider comments received after the closing date to the extent practicable. Instructions for submitting comments are described in the Public Meeting Details section of the original notice of public meeting (83 FR 38201, August 3, 2018).

The public meeting is structured to be a listening session in which NHTSA considers recommendations from the public on how best to improve NCAP. Webcast will be available for this public meeting.

Issued in Washington, DC, under authority delegated in 49 CFR 1.95 and 501.5.
Heidi Renate King,
Deputy Administrator.

[FR Doc. 2018-20116 Filed 9-12-18; 4:15 pm]

BILLING CODE 4910-59-P